DEPARTMENT OF TRANSPORTATION

Federal Aviation Administration

14 CFR Part 39

[Docket No. 2002-NM-15-AD; Amendment 39-13069; AD 2003-04-20]

RIN 2120-AA64

Airworthiness Directives; Raytheon Model DH.125, HS.125, and BH.125 Series Airplanes; Model BAe.125 Series 800A, 800A (C-29A), 800A (U-125), 800B, 1000A, and 1000B Airplanes; and Model Hawker 800, 800 (including variant U-125A), 1000, and 800XP Airplanes

AGENCY: Federal Aviation Administration, DOT.

ACTION: Final rule.

SUMMARY: This amendment supersedes an existing airworthiness directive (AD), applicable to certain Raytheon Model DH.125, HS.125, BH.125, and BAe.125 (U-125 and C-29A) series airplanes; and Model Hawker 800, Hawker 800 (including variant U-125A), Hawker 800XP, and Hawker 1000 airplanes; that currently requires an inspection for cracking or corrosion of the cylinder head lugs of the main landing gear (MLG) actuator and follow-on/corrective actions. This amendment expands the applicability of the existing AD to add an airplane model and further clarify the applicability and, for certain airplanes, to clarify the compliance time of the inspection requirements. This action is necessary to prevent separation of the cylinder head lugs, which could prevent the MLG from extending and result in a partial gear-up landing. This action is intended to address the identified unsafe condition.

DATES: Effective April 4, 2003.

The incorporation by reference of a certain publication, as listed in the regulations, was approved previously by the Director of the Federal Register as of October 3, 2001 (66 FR 45575, August 29, 2001).

ADDRESSES: The service information referenced in this AD may be obtained from Raytheon Aircraft Company, Department 62, PO Box 85, Wichita, Kansas 67201-0085. This information may be examined at the Federal Aviation Administration (FAA), Transport Airplane Directorate, Rules Docket, 1601 Lind Avenue, SW., Renton, Washington; or at the FAA, Wichita Aircraft Certification Office, 1801 Airport Road, Room 100, Wichita, Kansas; or at the Office of the Federal Register, 800 North Capitol Street, NW., suite 700, Washington, DC.

FOR FURTHER INFORMATION CONTACT: David Ostrodka, Aerospace Engineer, Airframe Branch, ACE-118W, FAA, Wichita Aircraft Certification Office, 1801 Airport Road, Room 100, Mid-Continent Airport, Kansas 67209; telephone (316) 946-4129; fax (316) 946-4407.

SUPPLEMENTARY INFORMATION: A proposal to amend part 39 of the Federal Aviation Regulations (14 CFR part 39) by superseding AD 2001-17-26 R1, amendment 39-12619 (67 FR 4171, January 29, 2002), which is applicable to certain Raytheon Model DH.125, HS.125, BH.125, and BAe.125 (U-125 and C-29A) series airplanes; and Model Hawker 800, Hawker 800 (including variant U-125A), Hawker 800XP, and Hawker 1000 airplanes; was published in the Federal Register on August 30, 2002 (67 FR 55742). The action proposed to continue to require an inspection for cracking or corrosion of the cylinder head lugs of the main landing gear (MLG) actuator, and follow-on/corrective actions. The action also proposed to expand and clarify the applicability of the existing AD per the referenced service bulletin and type certificate data sheet, and, for certain airplanes, to clarify the compliance time for the inspection requirements in paragraph (b)(3) of this AD.

Comments

Interested persons have been afforded an opportunity to participate in the making of this amendment. No comments were submitted in response to the proposal or the FAA's determination of the cost to the public.

Explanation of Change to Applicability

For clarification purposes, we have revised the wording in the parentheses for Model Hawker 800 airplanes in the applicability throughout this AD to read “(including variant U-125A).”

Conclusion

After careful review of the available data, we have determined that air safety and the public interest require the adoption of the rule with the changes previously described. We have determined that these changes will neither increase the economic burden on any operator nor increase the scope of the AD.

Cost Impact

There are approximately 1,000 airplanes of the affected design in the worldwide fleet. We estimate that 650 airplanes of U.S. registry will be affected by this AD.

The actions that are currently required by AD 2001-17-26 R1, and retained in this AD, take approximately 20 work hours per airplane to accomplish, at an average labor rate of $60 per work hour. Based on these figures, the cost impact of the currently required actions on U.S. operators is estimated to be $780,000, or $1,200 per airplane.

This AD does not add any new actions or requirements, and only revises the applicability of the AD by adding an airplane model, clarifying the model designations, and clarifying the compliance time for the inspection requirements for certain airplanes. Therefore, the estimated cost impact for this proposed AD is unchanged from the existing AD.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. However, for affected airplanes within the period under the warranty agreement, we have been advised that the manufacturer has committed previously to its customers that it will bear the cost of replacement parts. We also have been advised that manufacturer warranty remedies are available for labor costs associated with accomplishing the actions required by this AD. Therefore, the future economic cost impact of this AD may be less than the cost impact figure indicated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12619 (67 FR 4171, January 29, 2002), and by adding a new airworthiness directive (AD), amendment 39-13069, to read as follows:

2003-04-20 Raytheon Aircraft Company: Amendment 39-13069. Docket 2002-NM-15-AD. Supersedes AD 2001-17-26 R1, Amendment 39-12619.

Applicability: Model DH.125, HS.125, and BH.125 series airplanes; Model BAe.125 series 800A, 800A (C-29A), 800A (U-125), 800B, 1000A, and 1000B airplanes; and Model Hawker 800, 800 (including variant U-125A), 1000, and 800XP airplanes; as listed in Raytheon Service Bulletin 32-3391, dated August 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent separation of the cylinder head lugs, which could prevent the main landing gear (MLG) from extending and result in a partial gear-up landing, accomplish the following:

Restatement of Certain Requirements of AD 2001-17-26 R1:

Inspection

(a) For Model DH.125, HS.125, and BH.125 series airplanes; BAe.125 series 800A, 800A (C-19A), 800A (U-125A), 1000A, and 1000B airplanes; and Model Hawker 800, 800 (including variant U-125A), 800XP, and 1000 airplanes: Perform an eddy current inspection of the actuator cylinder head lugs for cracking or corrosion per Raytheon Service Bulletin 32-3391, dated August 2000, at the time specified in paragraph (a)(1), (a)(2), (a)(3), or (a)(4) of this AD, as applicable.

(1) For actuator cylinder heads that have 3,000 or less total landings as of October 3, 2001 (the effective date of AD 2001-17-26 R1, amendment 39-12619): Perform the eddy current inspection within 24 months after October 3, 2001.

(2) For actuator cylinder heads that have 3,001 to 4,000 total landings as of October 3, 2001: Perform the eddy current inspection within 6 months after October 3, 2001.

(3) For actuator cylinder heads that have been in service for more than 7 years as of October 3, 2001: Perform the eddy current inspection within 6 months after October 3, 2001.

(4) For actuator cylinder heads that have 4,001 or more total landings as of October 3, 2001: Perform the eddy current inspection within 10 landings after October 3, 2001.

New Requirements of this AD:

(b) For Model BAe.125 series 800B airplanes: Perform an eddy current inspection of the actuator cylinder head lugs for cracking or corrosion per Raytheon Service Bulletin 32-3391, dated August 2000, at the time specified in paragraph (b)(1), (b)(2), or (b)(3) of this AD, as applicable.

(1) For actuator cylinder heads that have 3,000 or less total landings as of the effective date of this AD: Perform the eddy current inspection within 24 months after the effective date of this AD.

(2) For actuator cylinder heads that have 3,001 to 4,000 total landings as of the effective date of this AD: Perform the eddy current inspection within 6 months after the effective date of this AD.

(3) For actuator cylinder heads that have been in service for more than 7 years or that have 4,001 or more total landings as of the effective date of this AD: Perform the eddy current inspection at the earlier of the times specified in paragraph (b)(3)(i) or (b)(3)(ii) of this AD.

(i) Within 6 months after the effective date of this AD.

(ii) Within 10 landings after the effective date of this AD.

If No Cracking or Corrosion

(c) If no cracking or corrosion is found during the inspection required by paragraph (a) or (b) of this AD, before further flight, accomplish follow-on actions (e.g., “vibro-etching” the MLG actuator data plate, painting a blue stripe on the actuator cylinder head to indicate 1 1/32-inch oversize bushings, replacing bushings, and applying corrosion protection to the lug bores), per Raytheon Service Bulletin 32-3391, dated August 2000.

If Any Cracking or Corrosion

(d) If any cracking or corrosion is found during the inspection required by paragraph (a) or (b) of this AD, before further flight, accomplish either of the actions specified in paragraph (d)(1) or (d)(2) of this AD, per Raytheon Service Bulletin 32-3391, dated August 2000:

(1) Replace the actuator of the MLG with a new or serviceable actuator; or

(2) Replace the actuator cylinder head with a new cylinder head.

Note 2: Raytheon Service Bulletin 32-3391, dated August 2000, references Precision Hydraulics Component Maintenance Manual 32-30-1105 as an additional source of service information.

Alternative Methods of Compliance

(e) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with Raytheon Service Bulletin 32-3391, dated August 2000. This incorporation by reference of that document was approved previously by the Director of the Federal Register as of October 3, 2001 (66 FR 45575, August 29, 2001). Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(h) This amendment becomes effective on April 4, 2003.

Issued in Renton, Washington, on February 19, 2003.
Ali Bahrami,
Acting Manager, Transport Airplane Directorate, Aircraft Certification Service.

[FR Doc. 03-4586 Filed 2-27-03; 8:45 am]

BILLING CODE 4910-13-P